NUCLEAR REGULATORY COMMISSION

[NRC-2016-0186]

10 CFR Chapter I

Unified Agenda of Federal Regulatory and Deregulatory Actions

AGENCY: Nuclear Regulatory Commission.

ACTION: Semiannual regulatory agenda.

SUMMARY: We are publishing our semiannual regulatory agenda (the Agenda) in accordance with Public Law 96-354, “The Regulatory Flexibility Act,” and Executive Order 12866, “Regulatory Planning and Review.” The Agenda is a compilation of all rulemaking activities on which we have recently completed action or have proposed or are considering action. We have completed 13 rulemaking activities since publication of our last Agenda on June 9, 2016 (81 FR 37465). This issuance of our Agenda contains 26 active and 23 long-term rulemaking activities: 1 is Economically Significant; 7 represent Other Significant agency priorities; 39 are Substantive, Nonsignificant rulemaking activities; and 2 are Administrative rulemaking activities. Two of the NRC's rulemaking activities impact small entities. This issuance also contains our annual regulatory plan, which contains information on some of our most important regulatory actions that we are considering issuing in proposed or final form during Fiscal Year 2017. Our regulatory plan was submitted to OMB in June 2016; updates have been reflected in the Agenda abstract for each rulemaking. We are requesting comment on the rulemaking activities as identified in this Agenda.

DATES: Submit comments on rulemaking activities as identified in this Agenda by January 23, 2017.

ADDRESSES: Submit comments on any rulemaking activity in the Agenda by the date and methods specified in any Federal Register notice on the rulemaking activity. Comments received on rulemaking activities for which the comment period has closed will be considered if it is practical to do so, but assurance of consideration cannot be given except as to comments received on or before the closure dates specified in the Federal Register notice. You may submit comments on this Agenda through the Federal Rulemaking Web site by going to http://www.regulations.gov and searching for Docket ID NRC-2016-0186. Address questions about NRC dockets to Carol Gallagher; telephone: 301-415-3463; email: Carol.Gallagher@nrc.gov. For technical questions on any rulemaking activity listed in the Agenda, contact the individual listed under the heading “Agency Contact” for that rulemaking activity.

For additional direction on obtaining information and submitting comments, see “Obtaining Information and Submitting Comments” in the SUPPLEMENTARY INFORMATION section of this document.

FOR FURTHER INFORMATION CONTACT: Cindy Bladey, Office of Administration, U.S. Nuclear Regulatory Commission, Washington, DC 20555-0001, telephone: 301-415-3280; email: Cindy.Bladey@nrc.gov. Persons outside the Washington, DC, metropolitan area may call, toll-free: 1-800-368-5642. For further information on the substantive content of any rulemaking activity listed in the Agenda, contact the individual listed under the heading “Agency Contact” for that rulemaking activity.

SUPPLEMENTARY INFORMATION:

Obtaining Information and Submitting Comments

A. Obtaining Information

Please refer to Docket ID NRC-2016-0186 when contacting the NRC about the availability of information for this document. You may obtain publically-available information related to this document by any of the following methods:

• Reginfo.gov:

○ For completed rulemaking activities go to http://www.reginfo.gov/public/do/eAgendaHistory?showStage=completed, select “fall 2016 The Regulatory Plan and the Unified Agenda of Federal Regulatory and Deregulatory Actions” from drop down menu, and select “Nuclear Regulatory Commission” from drop down menu.

○ For active rulemaking activities go to http://www.reginfo.gov/public/do/eAgendaMain and select “Nuclear Regulatory Commission” from drop down menu.

○ For long-term rulemaking activities go to http://www.reginfo.gov/public/do/eAgendaMain, select “Current Long Term Actions” link, and select “Nuclear Regulatory Commission” from drop down menu.

• Federal Rulemaking Web site: Go to http://www.regulations.gov and search for Docket ID NRC-2016-0186.

• NRC's Public Web site: Go to http://www.nrc.gov/reading-rm/doc-collections/rulemaking-ruleforum/unified-agenda.html and select fall 2016.

• NRC's Public Document Room: You may examine and purchase copies of public documents at the NRC's PDR, Room O1-F21, One White Flint North, 11555 Rockville Pike, Rockville, Maryland 20852.

B. Submitting Comments

Please include Docket ID NRC-2016-0186 in your comment submission.

The NRC cautions you not to include identifying or contact information that you do not want to be publicly disclosed in your comment submission. The NRC will post all comment submissions at http://www.regulations.gov as well as enter the comment submissions into the Agencywide Documents Access and Management System (ADAMS). The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

Introduction

The Agenda is a compilation of all rulemaking activities on which an agency has recently completed action or has proposed or is considering action. The Agenda reports rulemaking activities in three major categories: Completed, active, and long-term. Completed rulemaking activities are those that were completed since publication of an agency's last Agenda; active rulemaking activities are those that an agency currently plans to have an Advance Notice of Proposed Rulemaking, a Proposed Rule, or a Final Rule issued within the next 12 months; and long-term rulemaking activities are rulemaking activities under development but for which an agency does not expect to have a regulatory action within the 12 months after publication of the current edition of the Unified Agenda.

We assign a “Regulation Identifier Number” (RIN) to a rulemaking activity when our Commission initiates a rulemaking and approves a rulemaking plan, or when the NRC staff begins work on a Commission delegated rulemaking ¹ that does not require a rulemaking plan. The Office of Management and Budget uses this number to track all relevant documents throughout the entire “lifecycle” of a particular rulemaking activity. We report all rulemaking activities in the Agenda that have been assigned a RIN and meet the definition for a completed, an active, or a long-term rulemaking activity.

¹ For information on delegated rulemakings see ADAMS Accession No. ML16040A011.

The information contained in this Agenda is updated to reflect any action that has occurred on a rulemaking activity since publication of our last Agenda on June 9, 2016 (81 FR 37465). Specifically, the information in this Agenda has been updated through September 2, 2016.

The date for the next scheduled action under the heading “Timetable” is the date the next regulatory action for the rulemaking activity is scheduled to be published in the Federal Register. The date is considered tentative and is not binding on the Commission or its staff. The Agenda is intended to provide the public early notice and opportunity to participate in our rulemaking process. However, we may consider or act on any rulemaking activity even though it is not included in the Agenda.

Common Prioritization of Rulemaking

A key part of our regulatory program is an annual review of all ongoing and potential rulemaking activities. In conjunction with our budget and long-term planning process, we develop program budget estimates and determine the relative priority of rulemaking activities using our Common Prioritization of Rulemaking (CPR) methodology (ADAMS Accession No. ML15086A074). The results of the most current annual review is available on the NRC's Rulemaking Priorities Web page at http://www.nrc.gov/reading-rm/doc-collections/rulemaking-ruleforum/rule-priorities.html. The CPR methodology considers four factors and assigns a score to each factor. Factor A includes activities that support the NRC's Strategic Plan goals of ensuring the safe and secure use of radioactive materials. Factor B includes activities that support the Strategic Plan cross-cutting strategies of Regulatory Effectiveness and Openness. Specifically, this factor considers whether the rulemaking activity enhances regulatory effectiveness and/or openness in the way that the NRC conducts regulatory activities. Factor C is a governmental factor representing interest to the NRC, Congress, or other governmental bodies. Factor D is an external factor representing interest to members of the public, non-governmental organizations, the nuclear industry, vendors, and suppliers. The overall priority is determined by adding the factor scores together for each rulemaking activity.

Section 610 Periodic Reviews Under the Regulatory Flexibility Act

Section 610 of the Regulatory Flexibility Act (RFA) requires agencies to conduct a review within 10 years of promulgation of those regulations that have or will have a significant economic impact on a substantial number of small entities. We undertake these reviews to decide whether the rules should be unchanged, amended, or withdrawn. At this time, we do not have any rules that have a significant economic impact on a substantial number of small entities; therefore, we have not included any RFA Section 610 periodic reviews in this edition of the Agenda. A complete listing of our regulations that impact small entities and related Small Entity Compliance Guides are available from the NRC's Web site at http://www.nrc.gov/about-nrc/regulatory/rulemaking/flexibility-act/small-entities.html.

Public Comments Received on the NRC's Unified Agenda

The NRC did not receive any written public comments on its last Agenda that published on June 9, 2016 (81 FR 37465).

Dated at Rockville, Maryland, this 2nd day of September 2016.
For the Nuclear Regulatory Commission.
Cindy Bladey,
Chief, Rules, Announcements, and Directives Branch, Division of Administrative Services, Office of Administration.

Nuclear Regulatory Commission—Proposed Rule Stage
Sequence No. | Title | Regulation Identifier No.
558 | Revision of Fee Schedules; Fee Recovery for FY 2017 [NRC-2016-0081] | 3150-AJ73

Nuclear Regulatory Commission—Completed Actions
Sequence No. | Title | Regulation Identifier No.
559 | Controlling the Disposition of Solid Materials [NRC-1999-0002] | 3150-AH18
560 | Variable Annual Fee Structure for Small Modular Power Reactors [NRC-2008-0664] | 3150-AI54
561 | Revision of Fee Schedules: Fee Recovery for FY 2016 [NRC-2015-0223] | 3150-AJ66

NUCLEAR REGULATORY COMMISSION (NRC)

Proposed Rule Stage

558. • Revision of Fee Schedules; Fee Recovery for FY 2017 [NRC-2016-0081]

Legal Authority: 31 U.S.C. 483; 42 U.S.C. 2201 ; 42 U.S.C. 2214; 42 U.S.C. 5841

Abstract: This rule would implement the Omnibus Budget Reconciliation Act of 1990 (OBRA-90), as amended, which requires the Nuclear Regulatory Commission to recover approximately 90 percent of its budget authority in a given fiscal year, less the amounts appropriated from the Waste Incidental to Reprocessing and generic homeland security activities, through fees assessed to licensees. This rulemaking would amend the Commission's fee schedules for licensing, inspection, and annual fees charged to its applicants and licensees. The licensing and inspection fees are established under 10 CFR part 170 and recover the Nuclear Regulatory Commission's cost of providing services to identifiable applicants and licensees. Examples of services provided by the Nuclear Regulatory Commission for which 10 CFR part 170 fees are assessed include license application reviews, license renewals, license amendment reviews, and inspections. The annual fees established under 10 CFR part 171 recover budgeted costs for generic (e.g., research and rulemaking) and other regulatory activities not recovered under 10 CFR part 170 fees.

Timetable:

Action | Date | FR Cite
NPRM | 01/00/17

Regulatory Flexibility Analysis Required: Yes.

Agency Contact: Michele D. Kaplan, Nuclear Regulatory Commission, Office of the Chief Financial Officer, Washington, DC 20555-0001, Phone: 301 415-5256, Email: michele.kaplan@nrc.gov.

RIN: 3150-AJ73

NUCLEAR REGULATORY COMMISSION (NRC)

Completed Actions

559. Controlling the Disposition of Solid Materials [NRC-1999-0002]

Legal Authority: 42 U.S.C. 2201; 42 U.S.C. 5841

Abstract: This rule would add radiological criteria for controlling the disposition of solid materials that have no, or very small amounts of, residual radioactivity resulting from licensed operations, and which originate in restricted or impacted areas of NRC-licensed facilities. The NRC staff provided a draft proposed rule package on Controlling the Disposition of Solid Materials to the Commission on March 31, 2005, which the Commission disapproved (ADAMS Accession No. ML051520285). The rulemaking package included a summary of stakeholder comments (NUREG/CR-6682), Supplement 1 (ADAMS Accession No. ML003754410). The Commission's decision was based on the fact that the Agency is currently faced with several high priority and complex tasks, that the current approach to review specific cases on an individual basis is fully protective of public health and safety, and that the immediate need for this rule has changed due to the shift in timing for reactor decommissioning. The Commission has discontinued action on this rulemaking.

Completed:

Reason | Date | FR Cite
Discontinued | 07/29/16 | 81 FR 49863

Regulatory Flexibility Analysis Required: Yes.

Agency Contact: Torre Taylor, Phone: 301 415-7900, Email: torre.taylor@nrc.gov.

RIN: 3150-AH18

560. Variable Annual Fee Structure for Small Modular Power Reactors [NRC-2008-0664]

Legal Authority: 42 U.S.C. 2201; 42 U.S.C. 5841

Abstract: This rule would amend the Nuclear Regulatory Commission's regulations governing annual fees to establish a variable annual fee structure for power reactors based on licensed power limits.

Completed:

Reason | Date | FR Cite
Final Rule | 05/24/16 | 81 FR 32617
Final Rule Effective | 06/23/16

Regulatory Flexibility Analysis Required: Yes.

Agency Contact: Michele D. Kaplan, Phone: 301 415-5256, Email: michele.kaplan@nrc.gov.

RIN: 3150-AI54

561. Revision of Fee Schedules: Fee Recovery for FY 2016 [NRC-2015-0223]

Legal Authority: 31 U.S.C. 483; 42 U.S.C. 2201; 42 U.S.C. 2214; 42 U.S.C. 5841

Abstract: This rule amends the Nuclear Regulatory Commission licensing, inspection, special project, and annual fees charged to its applicants and licensees and, for the first time, the NRC is proposing to recover its costs when it responds to third-party demands for information in litigation where the United States is not a party (“Touhy requests”). These amendments are necessary to implement the Omnibus Budget Reconciliation Act of 1990 as amended (OBRA-90), which requires the NRC to recover approximately 90 percent of its annual budget through fees.

Completed:

Reason | Date | FR Cite
Final Rule Published | 06/24/16 | 81 FR 41171
Final Rule Effective | 08/23/16

Regulatory Flexibility Analysis Required: Yes.

Agency Contact: Michele D. Kaplan, Phone: 301 415-5256, Email: michele.kaplan@nrc.gov.

RIN: 3150-AJ66

[FR Doc. 2016-29930 Filed 12-22-16; 8:45 am]

BILLING CODE 7590-01-P